FEDERAL COMMUNICATIONS COMMISSION

47 CFR Parts 1 and 54

[CC Docket No. 02-6; FCC 04-190]

Schools and Libraries Universal Service Support Mechanism

AGENCY: Federal Communications Commission (FCC).

ACTION: Final rule; announcement of effective date.

SUMMARY: The Federal Communications Commission (Commission) announces that its rules adopted or amended in the Schools and Libraries Universal Service Support Mechanism Fifth Report and Order and Order (CC Docket No. 02-6; FCC 04-190), to the extent they contained information collection requirements that required approval by the Office of Management and Budget (OMB), were approved, and became effective on November 12, 2004, following approval by OMB.

DATES: The rules or amendments to 47 CFR 1.8003, 54.504(b)(2), 54.504(c)(1), 54.504(h), 54.508 and 54.516, published at 69 FR 55097, September 13, 2004 and corrected at 69 FR 59145, October 4, 2004 became effective on November 12, 2004.

FOR FURTHER INFORMATION CONTACT: Vickie Robinson, Deputy Chief, Wireline Competition Bureau, Telecommunications Access Policy Division, (202) 418-7400. For additional information concerning the information collection contained in this document, contact Judith-B. Herman at (202) 418-0214, or at Judith-B.Herman@fcc.gov.

SUPPLEMENTARY INFORMATION: In the Schools and Libraries Universal Service Support Mechanism Fifth Report and Order and Order, the Commission adopted measures to protect against waste, fraud, and abuse in the administration of the schools and libraries universal service support mechanism (also known as the E-rate program). In particular, the Commission resolved a number of issues that have arisen from audit activities conducted as part of ongoing oversight over the administration of the universal service fund, and the Commission addressed programmatic concerns raised by its Office of Inspector General. A summary of the Schools and Libraries Universal Service Support Mechanism Fifth Report and Order and Order was published in the Federal Register on September 13, 2004, 69 FR 55097, and corrected on October 4, 2004, 69 FR 59145. In that summary, the Commission stated that with the exception of rules requiring OMB approval, the rules adopted in the Schools and Libraries Universal Service Support Mechanism Fifth Report and Order and Order would become effective 30 days after publication in the Federal Register. With regard to rules requiring OMB approval, the Commission stated that it would publish a document in the Federal Register announcing the effective date of those sections. OMB approved and announced the information collection requirements in the Federal Register on November 12, 2004. See OMB No. 3060-0806. Accordingly, through this document, the Commission announces that November 12, 2004 will function as the effective date of the information collection requirements and the rules implementing them.

List of Subjects

47 CFR Part 1

Administrative practice and procedure, Communications common carriers, Investigations, Telecommunications.

47 CFR Part 54

Reporting and recordkeeping requirements, Telecommunications, Telephone.

Federal Communications Commission.
Marlene H. Dortch,
Secretary.

[FR Doc. 05-18591 Filed 9-20-05; 8:45 am]

BILLING CODE 6712-01-P